DEPARTMENT OF HOMELAND SECURITY

Federal Emergency Management Agency

44 CFR Part 67

[Docket ID FEMA-2014-0002; Internal Agency Docket No. FEMA-B-1175]

Proposed Flood Elevation Determinations

AGENCY: Federal Emergency Management Agency, DHS.

ACTION: Proposed rule; correction.

SUMMARY: On February 16, 2011, the Federal Emergency Management Agency (FEMA) published in the Federal Register a proposed rule that contained an erroneous table. This document provides corrections to that table, to be used in lieu of the information published on February 16, 2011. The table provided here represents the flooding sources, location of referenced elevations, effective and modified elevations, and communities affected for Montgomery County, Pennsylvania (All Jurisdictions).

DATES: Comments are to be submitted on or before November 6, 2014.

ADDRESSES: You may submit comments, identified by Docket No. FEMA-B-1175, to Luis Rodriguez, Chief, Engineering Management Branch, Federal Insurance and Mitigation Administration, Federal Emergency Management Agency, 500 C Street SW., Washington, DC 20472, (202) 646-4064 or (email) Luis.Rodriguez3@fema.dhs.gov.

FOR FURTHER INFORMATION CONTACT: Luis Rodriguez, Chief, Engineering Management Branch, Federal Insurance and Mitigation Administration, Federal Emergency Management Agency, 500 C Street SW., Washington, DC 20472, (202) 646-4064 or (email) Luis.Rodriguez3@fema.dhs.gov.

SUPPLEMENTARY INFORMATION: FEMA publishes proposed determinations of Base (1% annual-chance) Flood Elevations (BFEs) and modified BFEs for communities participating in the National Flood Insurance Program (NFIP), in accordance with section 110 of the Flood Disaster Protection Act of 1973, 42 U.S.C. 4104, and 44 CFR 67.4(a).

These proposed BFEs and modified BFEs, together with the floodplain management criteria required by 44 CFR 60.3, are minimum requirements. They should not be construed to mean that the community must change any existing ordinances that are more stringent in their floodplain management requirements. The community may at any time enact stricter requirements of its own or pursuant to policies established by other Federal, State, or regional entities. These proposed elevations are used to meet the floodplain management requirements of the NFIP and also are used to calculate the appropriate flood insurance premium rates for new buildings built after these elevations are made final, and for the contents in those buildings.

In the proposed rule published at 76 FR 8982-8984, in the February 16, 2011, issue of the Federal Register, FEMA published a table under the authority of 44 CFR 67.4. The table, entitled “Montgomery County, Pennsylvania all Jurisdictions” addressed the flooding sources: Blair Mill Run, Blair Mill Run Tributary, Huntingdon Valley Creek, Meadow Brook, Pennypack Creek, Pennypack Creek Branch, Pennypack Creek Tributary No. 1, Pine Run, Rapp Run, Sandy Run, Sandy Run Tributary No. 1, Sandy Run Tributary No. 1a (downstream), Sandy Run Tributary No. 1a (upstream), Southampton Creek, Tributary No. 2 to Pine Run, and War Memorial Creek. That table contained inaccurate information as to the location of referenced elevation, effective and modified elevation in feet, and/or communities affected for the flooding sources Sandy Run, Sandy Run Tributary No. 1 and Sandy Run Tributary No. 1a (downstream). In addition, the proposed modifications listed for Sandy Run Tributary No. 1a (upstream) has been removed from the table. FEMA is no longer proposing any flood elevation determination changes along Sandy Run Tributary No. 1a (upstream) as identified in the above-referenced rulemaking publication. In this document, FEMA is publishing a table containing the accurate information, to address these prior errors. The information provided below should be used in lieu of that previously published.

Correction

In Proposed rule FR Doc. 2011-3420, beginning on page 8978 in the issue of February 16, 2011, make the following correction. On pages 8982-8984, correct the Montgomery County, Pennsylvania table as follows:

Flooding source(s) | Location of referenced elevation** | * Elevation in feet (NGVD) + Elevation in feet (NAVD) # Depth in feet above ground ‸ Elevation in meters (MSL): Effective | * Elevation in feet (NGVD) + Elevation in feet (NAVD) # Depth in feet above ground ‸ Elevation in meters (MSL): Modified | Communities affected
Montgomery County, Pennsylvania (All Jurisdictions)
Blair Mill Run | At the Pennypack Creek confluence | +212 | +211 | Borough of Hatboro, Township of Horsham, Township of Upper Moreland.
| At the downstream side of County Line Road | +259 | +261
Blair Mill Run Tributary | At the upstream side of West Monument Avenue | +227 | +228 | Borough of Hatboro.
| At the downstream side of East County Line Road | +247 | +252
Huntingdon Valley Creek | Approximately 800 feet downstream of Red Lion Road | +119 | +120 | Borough of Bryn Athyn, Township of Lower Moreland.
| Approximately 0.9 mile upstream of Byberry Road | +264 | +267
Meadow Brook | At the Pennypack Creek confluence | +115 | +118 | Township of Abington, Township of Lower Moreland.
| Approximately 1,000 feet upstream of the most upstream State Highway 2017 crossing | None | +287
Pennypack Creek | Approximately 1,200 feet downstream of Moredon Road | +99 | +100 | Borough of Bryn Athyn, Borough of Hatboro, Township of Abington, Township of Horsham, Township of Lower Moreland, Township of Upper Dublin, Township of Upper Moreland.
| Approximately 1.0 mile upstream of Mann Road | None | +359
Pennypack Creek Branch | Approximately 400 feet downstream of Witmer Road | +299 | +298 | Township of Horsham.
| Approximately 0.7 mile upstream of Witmer Road | None | +362
Pennypack Creek Tributary No. 1 | At the Pennypack Creek confluence | +198 | +204 | Borough of Hatboro, Township of Horsham, Township of Upper Moreland.
| Approximately 0.7 mile upstream of Dresher Road | None | +341
Pine Run | At the upstream side of State Highway 309 | +171 | +176 | Township of Upper Dublin.
| Approximately 800 feet upstream of Dreshertown Road | +231 | +239
Rapp Run | At the Pine Run confluence | +177 | +183 | Township of Upper Dublin.
| Approximately 0.5 mile upstream of the most upstream Lexington Drive crossing | +351 | +355
Sandy Run | Approximately 300 feet downstream of Bethlehem Pike | None | +159 | Township of Abington, Township of Springfield, Township of Upper Dublin, Township of Whitemarsh.
| Approximately 1,400 feet upstream of Roberta Avenue | None | +339
Sandy Run Tributary No. 1 | Approximately 150 feet upstream of Johnston Avenue | +237 | +236 | Township of Abington.
| Approximately 2,000 feet upstream of Johnston Avenue | None | +258
Sandy Run Tributary No. 1a (downstream) | Approximately 250 feet upstream of Fernwood Avenue | +238 | +237 | Township of Abington.
| Approximately 1,100 feet upstream of Fernwood Avenue | None | +243
Southampton Creek | At the Pennypack Creek confluence | +176 | +177 | Borough of Bryn Athyn, Township of Lower Moreland, Township of Upper Moreland.
| At the downstream side of County Line Road | +184 | +187
Tributary No. 2 to Pine Run | At the Pine Run confluence | None | +202 | Township of Upper Dublin.
| Approximately 1.1 miles upstream of the Pine Run confluence | None | +232
War Memorial Creek | At the Pennypack Creek confluence | +189 | +190 | Township of Upper Moreland.
| Approximately 700 feet upstream of Mineral Avenue | +265 | +267
* National Geodetic Vertical Datum.
+ North American Vertical Datum.
# Depth in feet above ground.
‸ Mean Sea Level, rounded to the nearest 0.1 meter.
** BFEs to be changed include the listed downstream and upstream BFEs, and include BFEs located on the stream reach between the referenced locations above. Please refer to the revised Flood Insurance Rate Maps (FIRMs) located at the community map repository (see below) for exact locations of all BFEs to be changed. Revised FIRMs may also be viewed online at http://www.fema.gov/preliminaryfloodhazarddata.
Send comments to Luis Rodriguez, Chief, Engineering Management Branch, Federal Insurance and Mitigation Administration, Federal Emergency Management Agency, 500 C Street SW., Washington, DC 20472.
ADDRESSES
Borough of Bryn Athyn
Maps are available for inspection at the Borough Hall, 2835 Buck Road, Bryn Athyn, PA 19009.
Borough of Hatboro
Maps are available for inspection at the Borough Hall, 414 South York Road, Hatboro, PA 19040.
Township of Abington
Maps are available for inspection at the Township Building, Engineer's Office, 1176 Old York Road, Abington, PA 19001.
Township of Horsham
Maps are available for inspection at the Township Municipal Building, 1025 Horsham Road, Horsham, PA 19044.
Township of Lower Moreland
Maps are available for inspection at the Lower Moreland Municipal Building, 640 Red Lion Road, Huntingdon Valley, PA 19006.
Township of Springfield
Maps are available for inspection at the Springfield Township Municipal Building, 1510 Paper Mill Road, Wyndmoor, PA 19038.
Township of Upper Dublin
Maps are available for inspection at the Upper Dublin Municipal Hall, 801 Loch Alsh Avenue, Fort Washington, PA 19034.
Township of Upper Moreland
Maps are available for inspection at the Upper Moreland Township Building, 117 Park Avenue, Willow Grove, PA 19090.
Township of Whitemarsh
Maps are available for inspection at the Whitemarsh Township Administrative Building, 616 Germantown Pike, Lafayette Hill, PA 19444.

(Catalog of Federal Domestic Assistance No. 97.022, “Flood Insurance.”)

Date: July 11, 2014.
Roy E. Wright,
Deputy Associate Administrator for Mitigation, Department of Homeland Security, Federal Emergency Management Agency.

[FR Doc. 2014-18101 Filed 8-7-14; 8:45 am]

BILLING CODE 9110-12-P